DEPARTMENT OF COMMERCE

International Trade Administration

[A-403-801]

Notice of Initiation and Preliminary Results of Antidumping Duty Changed Circumstances Review: Fresh and Chilled Atlantic Salmon from Norway

AGENCY: Import Administration, International Trade Administration, Department of Commerce.

ACTION: Notice of Initiation of Antidumping Duty Changed Circumstances Review: Fresh and Chilled Atlantic Salmon from Norway

SUMMARY: In response to a request from Nordic Group AS, an exporter of fresh and chilled Atlantic Salmon from Norway, and pursuant to section 751(b) of the Tariff Act of 1930, as amended (the Act), and 19 CFR 351.216 and 351.221(c) (3), the Department is initiating a changed circumstances review of the antidumping order on fresh and chilled Atlantic Salmon from Norway. Based on the information received, we preliminarily determine that Nordic Group AS is the successor-in-interest to Nordic Group A/L for purposes of determining antidumping duty liability. Interested parties are invited to comment on these preliminary results.

EFFECTIVE DATE: August 5, 2009.

FOR FURTHER INFORMATION CONTACT: John Conniff, Office of AD/CVD Operations, Office 3, Import Administration, International Trade Administration, U.S. Department of Commerce, 14th and Constitution Avenue, NW, Washington, DC 20230; telephone: (202) 482-1009.

Background

Nordic Group A/L, as an exporter of subject fresh whole salmon from Norway to the U.S., requested a new shipper review (NSR) in 1995. See Antidumping Duty Order: Fresh and Chilled Atlantic Salmon from Norway, 56 FR 14920 (April 12, 1991). The Department issued the final results of the NSR, giving Nordic Group A/L a dumping margin of 0.00%% in 1997. See Fresh and Chilled Salmon from Norway: Final Results of New Shipper Antidumping Duty Administrative Review, 62 FR 1430 (January 10, 1997). On December 30, 2005, the Department published in the Federal Register the final results of the full sunset review of the antidumping duty order on fresh and chilled Atlantic Salmon from Norway. See Fresh and Chilled Atlantic Salmon from Norway: Final Results of the Full Sunset Review of Antidumping Duty Order, 70 FR 77378 (December 30, 2005) (Norwegian Salmon Order).

On June 12, 2009, Nordic Group AS filed a request for a changed circumstances review of the Norwegian Salmon Order, claiming that Nordic Group A/L changed its name to Nordic Group AS. Nordic Group AS requested that it receive the same antidumping duty treatment as is accorded to Nordic Group A/L. In addition, Nordic Group AS submitted documentation in support of its claim. Nordic Group AS requested that the Department combine the notice of initiation of the review and the preliminary results of review in a single notice as this review essentially involves only corporate name changes.

Scope of the Order

The product covered by this order is the species Atlantic salmon (Salmon Salar) marketed as specified herein; the order excludes all other species of salmon: Danube salmon, Chinook (also called “king” or “quinnat”), Coho (“silver”), Sockeye (“redfish” or “blueback”), Humpback (“pink”) and Chum (“dog”). Atlantic salmon is a whole or nearly-whole fish, typically (but not necessarily) marketed gutted, and cleaned, with the head on. The subject merchandise is typically packed in fresh-water ice (“chilled”). Excluded from the subject merchandise are fillets, steaks and other cuts of Atlantic salmon. Also excluded are frozen, canned, smoked or otherwise processed Atlantic salmon. Atlantic salmon was classifiable under item number 110.2045 of the Tariff Schedules of the United States Annotated. Atlantic salmon is currently provided for under the Harmonized Tariff Schedule of the United States (HTSUS) subheadings 0302.12.0003 and 0302.12.0004. The HTSUS subheadings are provided for convenience and customs purposes. The written description remains dispositive as to the scope of the product coverage.

Initiation and Preliminary Results of Antidumping Duty Changed Circumstances Review

Pursuant to section 751(b)(1) of the Act, the Department will conduct a changed circumstances review upon receipt of a request from an interested party or receipt of information concerning an antidumping duty order which shows changed circumstances sufficient to warrant a review of the order. On June 12, 2009, Nordic Group AS submitted its request for a changed circumstances review. With its request, Nordic Group AS submitted certain information related to its claim that Nordic Group A/L changed its name to Nordic Group ASA and subsequently to Nordic Group AS., and that none of these name changes have affected the company's management, sales operations, supplier relationships or customer based in any meaningful way. In accordance with section 751(b) of the Act and 19 CFR 351.216, the Department has determined that there is a sufficient basis to initiate a changed circumstances review to determine whether Nordic Group AS is the successor-in-interest to Nordic A/L.

In making a successor-in-interest determination in antidumping proceedings, the Department typically examines several factors including, but not limited to: (1) management; (2) production facilities; (3) supplier relationships, and (4) customer base. See, e.g., Brass Sheet and Strip from Canada: Final Results of Antidumping Duty Administrative Review, 57 FR 20460, 20462 (May 13, 1992) and Certain Cut-To-Length Carbon Steel Plate from Romania: Initiation and Preliminary Results of Changed Circumstances Antidumping Duty Administrative Review, 70 FR 22847 (May 3, 2005) (Plate from Romania), unchanged in the Notice of Final Results of Antidumping Duty Changed Circumstances Review: Certain Cut-to-Length Carbon Steel Plate from Romania, 70 FR 35624 (June 21, 2005). While no single factor or combination of factors will necessarily be dispositive, the Department generally will consider the new company to be the successor to the predecessor company if the resulting operations are essentially the same as those of the predecessor company. See, e.g., Industrial Phosphoric Acid from Israel: Final Results of Antidumping Duty Changed Circumstances Review, 59 FR 6944, 6945 (February 14, 1994), and Plate from Romania, 70 FR 22847. Thus, if the record evidence demonstrates that, with respect to the production and sale of the subject merchandise, the new company operates as the same business entity as the predecessor company, the Department may assign the new the company the cash deposit rate of its predecessor. See, e.g., Fresh and Chilled Atlantic Salmon from Norway: Final Results of Changed Circumstances Antidumping Duty Administrative Review, 64 FR 9979, 9980 (March 1, 1999).

In accordance with 19 CFR 351.221(c)(3)(i), we preliminarily determine that Nordic Group AS is the successor-in-interest to Nordic Group A/L. In its June 12, 2009, submission Nordic Group AS provided evidence supporting its claim to be the successor-in-interest to Nordic Group A/S. In its June 12, 2009, submission, Nordic Group AS states that during the course of the new shipper review, Nordic Group A/L (A/L indicating a cooperative), notified the Department that it had changed its name to Nordic Group ASA (indicating a publicly held limited liability company). Further, since that time, the name of the company was changed from Nordic Group ASA to its current name, Nordic Group AS (indicating a privately held limited liability company). Nordic Groups AS claims that these name changes have not affected the company's management, sales operations, supplier relationships, or customer base in a meaningful way. This documentation consists of: (1) a affidavit of the CEO and Chairman of the Board of Nordic Group AS; (2) a Nordic Group A/L sales flyer showing the brand name “Fjord Fresh”; (3) a Nordic Group AS sales flyer showing the brand name “Fjord Fresh”; (4) supplier lists for both Nordic Group A/L and Nordic Group AS; and (5) a listing of current customers and customers from 1997.

The documentation described above demonstrates that there was little to no change in management structure, sales operations, supplier relationships, or customer base. For these reasons, we preliminarily find that Nordic Group AS is the successor-in-interest to Nordic Group A/L and, thus, should receive the same antidumping duty treatment with respect to fresh and chilled Atlantic Salmon from Norway.

When “expedited action is warranted,” the Department may publish the notice of initiation and preliminary determination concurrently. See 19 CFR 351.221(c)(3)(ii); see also Granular Polytetrafluoroethyline Resin from Italy: Initiation and Preliminary Results of Antidumping Changed Circumstances Review, 68 FR 13672 (March 20, 2003). The Department has determined that such action is warranted because Nordic Group AS has provided prima facie evidence that Nordic Group AS is the successor-in-interest, and we have the information necessary to make a preliminary finding already on the record.

Based on the record evidence, we find that Nordic Group AS operates as the same business entity as Nordic Group A/L. Thus, we preliminarily determine that Nordic Group AS is the successor-in-interest to Nordic Group A/L.

Public Comment

Interested parties are invited to comment on these preliminary results. Case briefs from interested parties may be submitted not later than 14 days after the date of publication of this notice. Rebuttal briefs, limited to the issues raised in those comments, may be filed not later than 21 days after the date of publication of this notice. All written comments shall be submitted in accordance with 19 CFR 351.303. Any interested party may request a hearing within 14 days of publication of this notice. Any hearing, if requested, will be held no later than 30 days after the date of publication of this notice, or the first workday thereafter. Persons interested in attending the hearing, if one is requested, should contact the Department for the date and time of the hearing. In accordance with 19 CFR 351.216(e), the Department will issue the final results of its antidumping duty changed circumstances review not later than 270 days after the date on which the review is initiated, or within 45 days if all parties agree to our preliminary results.

During the course of this antidumping duty changed circumstances review, cash deposit requirements for the subject merchandise exported by Nordic Group AS will continue to be the all others rate established in the investigation. See Antidumping Duty Order: Fresh and Chilled Atlantic Salmon from Norway, 56 FR 14920 (April 12, 1991). The cash deposit rate will be altered, if warranted, pursuant only to the final results of this review.

We are issuing and publishing these preliminary results and notice in accordance with sections 751(b)(1) and 777(i)(1) and (2) of the Act and 19 CFR 351.216.

Dated: July 28, 2009.
Ronald K. Lorentzen,
Acting Assistant Secretary for Import Administration.

[FR Doc. E9-18734 Filed 8-4-09; 8:45 am]

BILLING CODE 3510-DS-S